Title 3—

The President

Proclamation 8189 of October 10, 2007

General Pulaski Memorial Day, 2007

By the President of the United States of America

A Proclamation

More than two hundred years after the death of General Casimir Pulaski, we honor the life and legacy of a Polish patriot and American Revolutionary War soldier who made the ultimate sacrifice for freedom.

Casimir Pulaski first demonstrated his devotion to the cause of liberty while defending his native Poland and earned a reputation for courage and resolve. He later met Benjamin Franklin in Paris and learned of America's struggle for independence. Inspired by freedom's call, Pulaski joined General George Washington in the American Revolution in 1777 and was soon commissioned as a Brigadier General. General Pulaski recruited and trained a special corps of American, Polish, Irish, French, and German troops, and he became known as “the Father of the American Cavalry.” Although he was mortally wounded at the siege of Savannah in 1779, his legacy lives on.

As we celebrate General Pulaski Memorial Day, we honor a son of Poland who stood with our country at the dawn of our independence. Casimir Pulaski's determined efforts in Poland and America remind us of the great contributions Polish Americans have made to our country. Today, we recognize the enduring bond between the Polish and American people, and we are grateful for Poland's efforts in support of freedom and democracy in Afghanistan and Iraq and in the global war on terror.

NOW, THEREFORE, I, GEORGE W. BUSH, President of the United States of America, by virtue of the authority vested in me by the Constitution and laws of the United States, do hereby proclaim October 11, 2007, as General Pulaski Memorial Day. I urge Americans to commemorate this occasion with appropriate activities and ceremonies honoring General Casimir Pulaski and all those who defend our freedom.

IN WITNESS WHEREOF, I have hereunto set my hand this tenth day of October, in the year of our Lord two thousand seven, and of the Independence of the United States of America the two hundred and thirty-second.

[FR Doc. 07-5108

Filed 10-12-07; 8:53 am]

Billing code 3195-01-P